SMALL BUSINESS ADMINISTRATION

[Declaration of Disaster #3348, Amdt. 3]

State of Louisiana

In accordance with a notice received from the Federal Emergency Management Agency, dated July 10, 2001, the above-numbered Declaration is hereby amended to include East Feliciana, Saint Helena and West Baton Rouge Parishes in the State of Louisiana as disaster areas caused by Tropical Storm Allison occurring on June 5, 2001 and continuing through June 22, 2001.

In addition, applications for economic injury loans from small businesses located in Wilkinson County in the State of Mississippi may be filed until the specified date at the previously designated location. Any counties contiguous to the above named primary counties and not listed here have been previously declared.

All other information remains the same, i.e., the deadline for filing applications for physical damage is August 10, 2001, and for loans for economic injury is March 11, 2002.

(Catalog of Federal Domestic Assistance Program Nos. 59002 and 59008.)
Dated: July 12, 2001.
Herbert L. Mitchell,
Associate Administrator for Disaster Assistance.

[FR Doc. 01-17946 Filed 7-17-01; 8:45 am]

BILLING CODE 8025-01-P